DEPARTMENT OF LABOR

Employment and Training Administration

[TA-W-39,997]

Keokuk Ferro-Sil, Inc. Keokuk, Iowa; Notice of Revised Determination on Reconsideration

By letter of November 14, 2001, the company requested administrative reconsideration regarding the Department's Negative Determination Regarding Eligibility to Apply for Worker Adjustment Assistance, applicable to the workers of the subject firm.

The initial investigation resulted in a negative determination issued on October 31, 2001, based on the finding that a survey of customers indicated that increased imports did not contribute importantly to worker separations. The denial notice was published in the Federal Register on November 9, 2001 (66 FR 56711).

The company alleged that 75% ferrosilicon is competitive with 50% ferrosilicon and therefore imports of 75% ferrosilicon should be considered as impacting the subject plant workers.

The Department upon examination of the data supplied by the company is in agreement that 50% and 75% ferrosilicon are competitive with each other for the bulk of their uses. Upon examination of industry trade statistics pertaining to ferrosilicon it is apparent that 50% and 75% ferrosilicon imports increased significantly, while U.S. production declined during the relevant period.

Conclusion

After careful review of the additional facts obtained on reconsideration, I conclude that increased imports of articles like or directly competitive with those produced at Keokuk Ferro-Sil, Inc., Keokuk, Iowa contributed importantly to the declines in sales or production and to the total or partial separation of workers at the subject firm. In accordance with the provisions of the Act, I make the following certification:

All workers of Keokuk Ferro-Sil, Inc., Keokuk, Iowa who became totally or partially separated from employment on or after August 23, 2000 through two years from the date of this certification, are eligible to apply for adjustment assistance under section 223 of the Trade Act of 1974.

Signed in Washington, DC, this 18th day of January 2002.
Edward A. Tomchick,
Director, Division of Trade Adjustment Assistance.

[FR Doc. 02-2691 Filed 1-31-02; 8:45 am]

BILLING CODE 4510-30-M